DEPARTMENT OF COMMERCE

National Oceanic and Atmospheric Administration

50 CFR Part 648

[Docket No.: 200325-0088]

RIN 0648-BJ51

Fisheries of the Northeastern United States; Framework Adjustment 32 to the Atlantic Sea Scallop Fishery Management Plan

AGENCY: National Marine Fisheries Service (NMFS), National Oceanic and Atmospheric Administration (NOAA), Commerce.

ACTION: Final rule.

SUMMARY: NMFS approves and implements Framework Adjustment 32 to the Atlantic Sea Scallop Fishery Management Plan. This action is necessary to set scallop specifications and other measures for fishing years 2020 and 2021, and implement measures to protect small scallops and reduce bycatch of flatfish. This action is intended to prevent overfishing and improve both yield-per-recruit and the overall management of the Atlantic sea scallop resource.

DATES: Effective April 1, 2020.

ADDRESSES: The New England Fishery Management Council developed an environmental assessment for this action that describes the measures in Framework Adjustment 32 and other considered alternatives and analyzes the impacts of the measures and alternatives. Copies of Framework 32, the environmental assessment, the Initial Regulatory Flexibility Analysis (IRFA), and information on the economic impacts of this rulemaking are available upon request from Thomas A. Nies, Executive Director, New England Fishery Management Council, 50 Water Street, Newburyport, MA 01950 and accessible via the internet in documents available at: https://www.nefmc.org/library/framework-32.

Copies of the small entity compliance guide are available from Michael Pentony, Regional Administrator, NMFS, Greater Atlantic Regional Fisheries Office, 55 Great Republic Drive, Gloucester, MA 01930-2298, or available on the internet at: http://www.greateratlantic.fisheries.noaa.gov/sustainable/species/scallop/.

FOR FURTHER INFORMATION CONTACT: Travis Ford, Fishery Policy Analyst, 978-281-9233.

SUPPLEMENTARY INFORMATION:

Background

The New England Fishery Management Council adopted Framework 32 to the Atlantic Sea Scallop Fishery Management Plan (FMP) on December 5, 2019. The Council submitted an environmental assessment to NMFS on March 6, 2020, for approval. NMFS published a proposed rule for Framework 32 on February 20, 2020 (85 FR 9705). To help ensure that the final rule would be implemented before April 1, 2020, the start of the fishing year, the proposed rule included a 15-day public comment period that closed on March 6, 2020.

NMFS has approved all of the measures in Framework 32 recommended by the Council, as described below. This final rule implements Framework 32, which sets scallop specifications and other measures for fishing years 2020 and 2021, including changes to the catch, effort, and quota allocations and adjustments to the rotational area management program for fishing year 2020, measures to reduce bycatch of flatfish, and default specifications for fishing year 2021. The Magnuson-Stevens Fishery Conservation and Management Act (Magnuson-Stevens Act) allows NMFS to approve, partially approve, or disapprove measures proposed by the Council based on whether the measures are consistent with the FMP, the Magnuson-Stevens Act and its National Standards, and other applicable law. NMFS generally defers to the Council's policy choices unless there is a clear inconsistency with the law or the FMP. Details concerning the development of these measures were contained in the preamble of the proposed rule and are not repeated here. This final rule also addresses regulatory text that is unnecessary, outdated, or unclear consistent with section 305(d) of the Magnuson-Stevens Act.

Specification of Scallop Overfishing Limit (OFL), Acceptable Biological Catch (ABC), Annual Catch Limits (ACLs), Annual Catch Targets (ACTs), Annual Projected Landings (APLs) and Set-Asides for the 2020 Fishing Year, and Default Specifications for Fishing Year 2021

The Council set the OFL based on a fishing mortality (F) of 0.64, equivalent to the F threshold updated through the Northeast Fisheries Science Center's most recent scallop benchmark stock assessment that was completed in August 2018. The ABC and the equivalent total ACL for each fishing year are based on an F of 0.51, which is the F associated with a 25-percent probability of exceeding the OFL. The Council's Scientific and Statistical Committee (SSC) recommended scallop fishery ABCs of 100.1 million lb (45,414 mt) for 2020 and 80.3 million lb (36,435 mt) for the 2021 fishing year, after accounting for discards and incidental mortality. The SSC will reevaluate and potentially adjust the ABC for 2021 when the Council develops the next framework adjustment.

Table 1 outlines the scallop fishery catch limits derived from the ABC values and the projected landings of the fleet.

Table 1—Scallop Catch Limits (mt) for Fishing Years 2020 and 2021 for the Limited Access and Limited Access General Category (LAGC) IFQ Fleets
Catch limits | 2020 (mt) | 2021 (mt) ¹
Overfishing Limit | 56,186 | 47,503
Acceptable Biological Catch/ACL (discards removed) | 45,414 | 36,435
Incidental Catch | 23 | 23
Research Set-Aside (RSA) | 567 | 567
Observer Set-Aside | 454 | 364
ACL for fishery | 44,370 | 35,481
Limited Access ACL | 41,930 | 33,530
LAGC Total ACL | 2,440 | 1,951
LAGC IFQ ACL (5 percent of ACL) | 2,219 | 1,774
Limited Access with LAGC IFQ ACL (0.5 percent of ACL) | 222 | 177
Limited Access ACT | 37,819 | 30,242
APL (after set-asides removed) | 22,370 | (¹)
Limited Access Projected Landings (94.5 percent of APL) | 21,140 | (¹)
Total IFQ Annual Allocation (5.5 percent of APL) ² | 1,230 | 923
LAGC IFQ Annual Allocation (5 percent of APL) ² | 1,119 | 839
Limited Access with LAGC IFQ Annual Allocation (0.5 percent of APL) ² | 112 | 84
¹ The catch limits for the 2021 fishing year are subject to change through a future specifications action or framework adjustment. This includes the setting of an APL for 2021 that will be based on the 2020 annual scallop surveys.
² As a precautionary measure, the 2021 IFQ annual allocations are set at 75 percent of the 2020 IFQ Annual Allocations.

This action deducts 1.25 million lb (567 mt) of scallops annually for 2020 and 2021 from the ABC for use as the Scallop RSA to fund scallop research. Participating vessels are compensated through the sale of scallops harvested under RSA projects. Of the 1.25 million-lb (567-mt) allocation, NMFS has already allocated 86,953 lb (39,441 kg) to previously funded multi-year projects as part of the 2019 RSA awards process. NMFS reviewed proposals submitted for consideration of 2020 RSA awards and announced project selections on March 11, 2020. Details on the 2020 RSA awards can be found on our website here: https://www.fisheries.noaa.gov/new-england-mid-atlantic/science-data/2020-2021-sea-scallop-and-monkfish-research-set-aside.

This action also deducts 1 percent of the ABC for the industry-funded observer program to help defray the cost to scallop vessels that carry an observer. The observer set-aside is 454 mt for 2020 and 364 mt for 2021. In fishing year 2020, the compensation rates for limited access vessels in open areas fishing under days-at-sea (DAS) is 0.12 DAS per DAS fished. For access area trips, the compensation rate is 250 lb (113 kg), in addition to the vessel's possession limit for the trip for each day or part of a day an observer is onboard. LAGC IFQ vessels may possess an additional 250 lb (113 kg) per trip when carrying an observer. NMFS may adjust the compensation rate throughout the fishing year, depending on how quickly the fleets are using the set aside. The Council may adjust the 2021 observer set-aside when it develops specific, non-default measures for 2021.

Open Area DAS Allocations

This action implements vessel-specific DAS allocations for each of the three limited access scallop DAS permit categories (i.e., full-time, part-time, and occasional) for 2020 and 2021 (Table 2). The 2020 DAS allocations are the same as those allocated to the limited access fleet in 2019. Framework 32 sets 2021 DAS allocations at 75 percent of fishing year 2020 DAS allocations as a precautionary measure. This is to avoid over-allocating DAS to the fleet in the event that the 2021 specifications action is delayed past the start of the 2021 fishing year. The allocations in Table 2 exclude any DAS deductions that are required if the limited access scallop fleet exceeds its 2019 sub-ACL.

Table 2—Scallop Open Area DAS Allocations for 2020 and 2021
Permit category | 2020 | 2021 (default)
Full-Time | 24.00 | 18.00
Part-Time | 9.60 | 7.20
Occasional | 2.00 | 1.50

Changes to Fishing Year 2020 Sea Scallop Access Area Boundaries

For fishing year 2020 and the start of 2021, Framework 32 keeps the Mid-Atlantic Access Area (MAAA) and Closed Area I Access Area (CAI) open as access areas. In addition, this action opens three new areas, i.e., Nantucket Lightship-South-Deep Access Area (NLS-S-D) (Table 3), Nantucket Lightship-North Access Area (NLS-N) (Table 4), and Closed Area II Access Area (CAII) (Table 5). The boundaries for these areas will change slightly compared to previous years to better direct fishing on the scallops intended for harvest, to protect small scallops, and to reduce flatfish bycatch.

Table 3—Nantucket Lightship-South-Deep Scallop Access Area
Point | N latitude | W longitude
NLSSD1 | 40°22′ | 69°30′
NLSSD2 | 40°15′ | 69°30′
NLSSD3 | 40°15′ | 69°00′
NLSSD4 | 40°28′ | 69°00′
NLSSD5 | 40°28′ | 69°17′
NLSSD1 | 40°22′ | 69°30′

Table 4—Nantucket Lightship-North Scallop Access Area
Point | N latitude | W longitude
NLSN1 | 40°50′ | 69°30′
NLSH2 | 40°50′ | 69°00′
NLSN3 | 40°28′ | 69°00′
NLSN4 | 40°28′ | 69°30′
NLSN1 | 40°50′ | 69°30′

Table 5—Closed Area II Scallop Access Area
Point | N latitude | W longitude | Note
CAIIA1 | 41°30′ | 67°20′ |
CAIIA2 | 41°11′ | 67°20′ |
CAIIA3 | 41°11′ | 66°41′ |
CAIIA4 | 41°00′ | 66°41′ |
CAIIA5 | 41°00′ | (¹) | (²)
CAIIA6 | 41°30′ | (³) | (²)
CAIIA1 | 41°30′ | 67°20′ |
¹ The intersection of 41°00′ N lat. and the U.S.-Canada Maritime Boundary, approximately 41°00′ N lat. and 66°09.33′ W long.
² From Point CAIIA5 connected to Point CAIIA6 along the U.S.-Canada Maritime Boundary.
³ The intersection of 41°30′ N lat. and the U.S.-Canada Maritime Boundary, approximately 41°30′ N lat., 66°34.73′ W long.

Fishing Year 2020 Sea Scallop Closed Area Boundaries

Framework 32 closes three areas to scallop fishing for various reasons. This action closes the Closed Area II-Southwest and Extension Scallop Rotational Area (Table 6) to scallop fishing. Closing this area will protect small scallops that have not yet recruited to the fishery. In addition, closing this area is expected to reduce bycatch of Georges Bank yellowtail flounder and northern windowpane flounder on Georges Bank.

Table 6—Closed Area II—Southwest and Extension Scallop Closed Area
Point | N latitude | W longitude | Note
CAIISWE1 | 41°11′ | 67°20′ |
CAIISWE2 | 41°11′ | 66°41′ |
CAIISWE3 | 41°0′ | 66°41' |
CAIISWE4 | 41°0′ | (¹) | (²)
CAIISWE5 | 40°40′ | (³) | (²)
CAIISWE6 | 40°40′ | 67°20′ |
CAIISWE1 | 41°11′ | 67°20′ |
¹ The intersection of 41°0′ N lat. and the U.S.-Canada Maritime Boundary, approximately 41°0′ N lat. and 66°09.33′ W long.
² From Point CAIISWE 4 connected to Point CAIISWE5 along the U.S.-Canada Maritime Boundary.
³ The intersection of 40°40′ N lat. and the U.S.-Canada Maritime Boundary, approximately 40°40′ N lat. and 65°52.61′ W long.

This action also closes the Nantucket Lightship-Triangle Scallop Rotational Area (Table 7). The Council is closing this area because it is a small area with low scallop densities that could be used for research purposes in the absence of fishing.

Table 7—Nantucket Lightship-Triangle Scallop Closed Area
Point | N latitude | W longitude
NLST1 | 40°28′ | 69°30′
NLST2 | 40°28′ | 69°17′
NLST3 | 40°22′ | 69°30′
NLST1 | 40°28′ | 69°30′

Finally, Framework 32 closes the Stellwagen Bank Scallop Rotational Area (Table 8) through fishing year 2021. This closure protects a substantial number of small scallops that have not recruited into the fishery. This closure will be re-assessed after 1 year to confirm that it is protecting small scallops, as intended, and improving yield-per-recruit. In addition, closing this area is expected reduce bycatch of northern windowpane flounder on Stellwagen Bank.

Table 8—Stellwagen Bank Scallop Closed Area
Point | N latitude | W longitude
SB1 | 42°26′ | 70°27′
SB2 | 42°26′ | 70°15′
SB3 | 42°20′ | 70°15′
SB4 | 42°20′ | 70°27′
SB1 | 42°26′ | 70°27′

Areas Reverting to Open Area

Framework 32 opens two areas previously managed as part of the area rotation program because they no longer meet the criteria for either closure or controlled access, specifically the Nantucket Lightship-Hatchet Scallop Rotational Area and the Nantucket Lightship-West (NLS-W) Scallop Rotational Area. These areas will become part of the open area and can be fished as part of the DAS program or on LAGC IFQ trips. Because fishing year 2019 carryover access area fishing will continue in NLS-W until May 30, 2020, this area will not revert to open area until May 31, 2020.

Extension of CAII Seasonal Closure To Mitigate Flatfish Bycatch

Framework 32 extends the existing seasonal closure in CAII an additional 15 days to reduce bycatch of northern windowpane flounder and Georges Bank yellowtail flounder. The previous seasonal closure in CAII occurs from August 15-November 15 of each year. This action extends that closure for 15 additional days from August 15-November 30 for the 2020 fishing year only.

Full-Time Limited Access Allocations and Trip Possession Limits for Scallop Access Areas

Table 9 provides the limited access full-time allocations for all of the access areas for the 2020 fishing year and the first 60 days of the 2021 fishing year. These allocations can be landed in as many trips as needed, so long as vessels do not exceed the possession limit (also in Table 9) on any one trip.

Table 9—Scallop Access Area Full-Time Limited Access Vessel Poundage Allocations and Trip Possession Limits for 2020 and 2021
Rotational access area | Scallop possession limit | 2020 Scallop allocation | 2021 Scallop allocation (default)
Closed Area I Flex ¹ | 18,000 lb (8,165 kg) per trip | 9,000 lb (4,082 kg) | 0 lb (0 kg).
Closed Area II |  | 18,000 lb (8,165 kg) | 0 lb (0 kg).
Nantucket Lightship-North |  | 9,000 lb (4,082 kg) | 0 lb (0 kg).
Nantucket Lightship-South-Deep |  | 18,000 lb (8,165 kg) | 0 lb (0 kg).
Mid-Atlantic |  | 36,000 lb (16,329 kg) | 18,000 lb (8,165 kg).
Total |  | 90,000 lb (40,823 kg) | 18,000 lb (8,165 kg).
¹ Closed Area I flex allocation could be landed from either Closed Area I or the Mid-Atlantic Access Area.

Closed Area I Flex Allocation

Framework 32 allocates 9,000 lb (4,082 kg) of flexible allocation (flex allocation) in CAI to limited access full-time vessels (Table 9). Because of uncertainty about the condition of the resource in CAI, a full-time limited access vessel may choose to land its CAI allocation from either CAI or the MAAA for the 2020 fishing year and the first 60 days of the 2021 fishing year. For example, a vessel could take a trip in CAI and land 5,000 lb (2,268 kg) from that area, leaving the vessel with 4,000 lb (1,814 kg) of the CAI flex allocation available, which could be landed from the MAAA, provided the 18,000-lb (8,165-kg) possession limit is not exceeded on any one trip. Framework 32 does not allocate any flex allocation to part-time limited access vessels.

Changes to the Full-Time Limited Access Vessels' One-for-One Access Area Allocation Exchanges

Framework 32 allocates each full-time limited access vessel 9,000 lb (4,082 kg) of allocation to both CAI and NLS-N. To accommodate one-for-one access area allocation changes among all available access areas, this action allows full-time limited access vessels to exchange access area allocation in 9,000-lb (4,082-kg) increments. The owner of a vessel issued a full-time limited access scallop permit may exchange unharvested scallop pounds allocated into an access area for another full-time limited access vessel's unharvested scallop pounds allocated into another access area. For example, a full-time vessel may exchange 9,000 lb (4,082 kg), from one access area for 9,000 lb (4,082 kg) allocated to another full-time vessel for another access area. Further, a full-time vessel may exchange 18,000 lb (8,165 kg) from one access area for 18,000 lb (8,165 kg) allocated to another full-time vessel for another access area. One-for-one access area allocations for part-time limited access vessels remain unchanged and must occur in the increments of a possession limit, i.e., 12,000 lb (5,443 kg).

Changes to the Crew Restrictions for Trips in Nantucket Lightship-South-Deep Access Area

The scallops in the NLS-S-D are expected to have lower yield than similar sized scallops in other areas. Because these scallops are smaller than those normally harvested in the area rotation program, Framework 32 allows two additional crew members aboard both limited access full-time (10 in total) and limited access full-time small dredge vessels (8 in total). This allows vessels to add additional crew members to increase the shucking capacity of the vessel and reach the possession limit in a time more consistent with other access areas.

Part-Time Limited Access Allocations and Trip Possession Limits for Scallop Access Areas

Table 10 provides the limited access part-time allocations for all of the access areas for the 2020 fishing year and the first 60 days of the 2021 fishing year. These allocations can be landed in as many trips as needed, so long as the vessels do not exceed the possession limit (also in Table 10) on any one trip.

Table 10—Scallop Access Area Part-Time Limited Access Vessel Poundage Allocations and Trip Possession Limits for 2020 and 2021
Rotational access area | Scallop possession limit | 2020 Scallop allocation | 2021 Scallop allocation (default)
Closed Area II | 12,000 lb (5,443 kg) per trip | 12,000 lb (5,443 kg) | 0 lb (0 kg).
Mid-Atlantic |  | 24,000 lb (10,886 kg) | 7,200 lb (3,266 kg).
Total |  | 36,000 lb (16,329 kg) | 7,200 lb (3,266 kg).

Payback Measures for 2020 Default Poundage Allocations in NLS-W

Framework 32 does not allocate effort into the NLS-W, but instead reverts NLS-W to part of the open area. If NMFS implements these Framework 32 measures after the April 1 start of fishing year 2020, default access area allocations, which were established in Framework 30 to the Scallop FMP (84 FR 11436; March 27, 2019) will go into place on April 1. Full-time vessels will receive 18,000 lb (8,165 kg) of NLS-W allocation and part-time vessels will receive 7,200 lb (3,266 kg) of NLS-W allocation. Because of this discrepancy, this action sets payback measures intended to disincentivize vessels from fishing in NLS-W using 2020 default allocations.

If Framework 32 implementation is delayed, and a vessel fishes any of its fishing year 2020 default NLS-W access area allocation established through Framework 30, that vessel will lose its CAII allocation established through Framework 32. This does not prohibit vessels from fishing the remainder of their fishing year 2019 NLS-W allocation during the first 60 days of fishing year 2020. If Framework 32 is delayed, NMFS will notify all limited access permit holders of these payback measures and other fishing year 2020 default allocations.

LAGC Measures

1. ACL and IFQ Allocation for LAGC Vessels with IFQ Permits. For LAGC vessels with IFQ permits, this action implements a 2,219-mt ACL for 2020 and a 1,774-mt default ACL for 2021 (see Table 1). These sub-ACLs have no associated regulatory or management requirements, but provide a ceiling on overall landings by the LAGC IFQ fleets. The annual allocation to the LAGC IFQ-only fleet for fishing years 2020 and 2021 based on APL is 1,119 mt for 2020 and 839 mt for 2021 (see Table 1). Each vessel's IFQ is calculated from these allocations based on APL.

2. ACL and IFQ Allocation for Limited Access Scallop Vessels with IFQ Permits. For limited access scallop vessels with IFQ permits, this action implements a 222-mt ACL for 2020 and a default 177-mt ACL for 2021 (see Table 1). These sub-ACLs have no associated regulatory or management requirements, but provide a ceiling on overall landings by this fleet. If the fleet were to reach this ceiling, any overages would be deducted from the following year's sub-ACL. The annual allocation to limited access vessels with IFQ permits is 112 mt for 2020 and 84 mt for 2021 (see Table 1). Each vessel's IFQ is calculated from these allocations based on APL.

3. LAGC IFQ Trip Allocations for Scallop Access Areas. Framework 32 allocates LAGC IFQ vessels a fleet-wide number of trips in CAI, NLS-N, NLS-S-D, and MAAA for fishing year 2020 and default trips in the MAAA for fishing year 2021 (see Table 11). The scallop catch associated with the total number of trips for all areas combined (2,855 trips) for fishing year 2020 is equivalent to the 5.5 percent of total projected catch from access areas.

Table 11—Fishing Years 2020 and 2021 LAGC IFQ Trip Allocations for Scallop Access Areas
Scallop access area | 2020 | 2021 ¹
Closed Area I | 571 | 0
Nantucket Lightship-North | 571 | 0
Nantucket Lightship-South-Deep | 571 | 0
Mid-Atlantic | 1,142 | 571
Total | 2,855 | 571
¹ The LAGC IFQ access area trip allocations for the 2021 fishing year are subject to change through a future specifications action or framework adjustment.

4. Northern Gulf of Maine (NGOM) Total Allowable Catch (TAC). This action implements a 350,000-lb (158,757-kg) NGOM TAC for fishing year 2020 and a 265,000-lb (120,202-kg) default NGOM TAC for fishing year 2021. The final rule for NGOM portions of Framework 29 (83 FR 12857; March 26, 2019) developed a methodology for splitting the NGOM TAC between the LAGC and the limited access fleets. Framework 32 continues splitting the TAC using this methodology. The limited access portion of the TAC may only be fished by vessels participating in the RSA program that are participating in a project that has been allocated NGOM RSA allocation. The LAGC portion of the TAC may be fished by NGOM and LAGC IFQ vessels on trips with a 200-lb (90.7-kg) possession limit until the TAC has been harvested. Table 12 describes the division of the TAC for the 2020 and 2021 (default) fishing years.

During the 2018 fishing year the LAGC fleet exceeded its portion of the NGOM TAC by 3,718 lb (1,686 kg). This triggers a pound-for-pound deduction to the LAGC portion of the NGOM TAC to account for the overage. Because final catch accounting data for the 2018 fishing year was not available in time to implement this deduction in the 2019 fishing year, the LAGC portion of the NGOM TAC for the 2020 fishing year is reduced by 3,718 lb (1,686 kg) to account for the overage. The resulting LAGC NGOM TAC is 206,282 lb (93,567 kg) and the total 2020 NGOM TAC is 346,282 lb (157,071 kg).

Table 12—NGOM TACs for Fishing Year 2020 and 2021
Fleet | 2020: lb | 2020: kg | 2021 ¹: lb | 2021 ¹: kg
LAGC | 206,282 | 93,567 | 167,500 | 75,977
Limited access | 140,000 | 63,503 | 97,500 | 44,225
Total | 346,282 | 157,071 | 265,000 | 120,202
¹ The NGOM TACs for the 2021 fishing year are subject to change through a future specifications action or framework adjustment.

5. Scallop Incidental Catch Target TAC. This action implements a 50,000-lb (22,680-kg) scallop incidental catch target TAC for fishing years 2020 and 2021 to account for mortality from vessels that catch scallops while fishing for other species and ensure that F targets are not exceeded. The Council and NMFS may adjust this target TAC in a future action if vessels catch more scallops under the incidental target TAC than predicted.

RSA Harvest Restrictions

This action allows vessels participating in RSA projects to harvest RSA compensation from the MAAA and the open area. All vessels are prohibited from harvesting RSA compensation pounds in all other access areas. Vessels are prohibited from fishing for RSA compensation in the NGOM unless the vessel is fishing an RSA compensation trip using NGOM RSA allocation that was awarded to an RSA project. Finally, Framework 32 prohibits the harvest of RSA from any access areas under default 2021 measures. At the start of 2021, RSA compensation may only be harvested from open areas. The Council will re-evaluate this default prohibition measure in the action that would set final 2021 specifications.

Regulatory Corrections Under Regional Administrator Authority

This rule includes eight revisions to address regulatory text that is unnecessary, outdated, or unclear. These revisions are consistent with section 305(d) of the Magnuson-Stevens Act, which provides authority to the Secretary of Commerce to promulgate regulations necessary to ensure that amendments to an FMP are carried out in accordance with the FMP and the Magnuson-Stevens Act. The first revision, at § 648.4(a)(2)(ii)(G)(1)(ii), corrects a typo referencing NGOM permits. The second revision, at § 648.10(f)(4)(ii), clarifies that vessels only need to send in a daily catch report through their vessel monitoring system (VMS) on trips greater than 24 hours. NMFS no longer requires this report on trips less than 24 hours because all of the information provided can be determined from the required pre-landing report. The third revision at § 648.14(i)(1)(iii)(A)(4) clarifies that all NGOM vessels are prohibited from possessing scallops in Federal waters of the NGOM management area when declared into the state waters fishery exemption program. The fourth revision removes paragraph § 648.14(i)(3)(i)(B) because possession limits for all LAGC vessels are clearly articulated in § 648.14(i)(1)(iii). The fifth revision at § 648.14(i)(4)(i)(G) clarifies that LAGC IFQ vessels can possess more than 40 lb (18.1 kg) of shucked scallops on a properly declared NE multispecies, surfclam, or ocean quahog trip (or other fishery requiring a VMS declaration) while not fishing in a scallop access area. The sixth revision, at § 648.52(b), clarifies that LAGC vessels declared into the NGOM scallop fishery may not possess or land, per trip, more than 200 lb (90.7 kg) of shucked scallops, or possess more than 25 bu (8.81 hL) of in-shell scallops shoreward of the VMS Demarcation Line for vessels declared into the NGOM fishery. The seventh revision at § 648.52(c), clarifies that LAGC IFQ vessels on a properly declared Northeast multispecies, surfclam, or ocean quahog trip or other fishery requiring a VMS declaration can possess more than 40 lb (18.1 kg) of shucked scallops, or possess more than 5 bu (1.76 hL) of in-shell scallops shoreward of the VMS Demarcation Line. The final revision, at § 648.53(h)(5), clarifies that LAGC IFQ permit owners can temporarily transfer IFQ more than once (i.e., re-transfer) in a given fishing year. No public comments were received on these regulatory corrections.

Comments and Responses

We received three comments on the proposed rule during the public comment period; one that was unrelated to the proposed measures; one from the Fisheries Survival Fund (FSF), which represents the significant majority of full-time Limited Access permit holders in the Atlantic scallop fishery, in support of the action; and one from an industry member who was opposed to closing Stellwagen Bank in the NGOM. We are not addressing the unrelated comment in this final rule.

Comment 1: An industry member commented that NMFS should not implement the closure on the portion of Stellwagen Bank because small boats cannot take any more restrictions.

Response: The Council recommended the closure on Stellwagen Bank to protect a substantial number of small scallops that have not yet recruited into the fishery and intends to reopen this area in a future year to allow for the harvest of these scallops once they reach an optimum size. Further, the 2020 NGOM TAC is set based only on available scallops in Ipswich Bay and on Jefferys Ledge that would be available for harvest and not those in the Stellwagen Bank closure. The resultant TAC provides the highest allowable catch for the NGOM fleet in history.

Comment 2: FSF commented in support of the action and urged that NMFS implement Framework 32 by April 1, 2020. FSF specifically acknowledged its support for the adjustments to one-for-one access area allocation exchanges, the opening of NLS-S-D, and the changes to the crew restrictions for trips in the NLS-S-D.

Response: NMFS appreciates the comment.

Classification

Pursuant to section 304(b)(1)(A) of the Magnuson-Stevens Act, the NMFS Assistant Administrator has determined that this final rule is consistent with the FMP, other provisions of the Magnuson-Stevens Act and other applicable law.

The Office of Management and Budget has determined that this rule is not significant pursuant to E.O. 12866.

This final rule does not contain policies with federalism or “takings” implications, as those terms are defined in E.O. 13132 and E.O. 12630, respectively.

This action does not contain any collection-of-information requirements subject to the Paperwork Reduction Act (PRA).

The Assistant Administrator for Fisheries has determined that the need to implement the measures of this rule in an expedited manner is necessary to achieve conservation objectives for the scallop fishery and certain fish stocks. This constitutes good cause, under authority contained in 5 U.S.C. 553(d)(3), to waive the 30-day delay in the date of effectiveness and to make the final Framework 32 measures effective on April 1, 2020.

The 2020 fishing year begins on April 1, 2020. If Framework 32 is delayed beyond April 1, certain default measures, including access area designations, DAS, IFQ, research set-aside and observer set-aside allocations, would automatically be put into place. Most of these default allocations were set more conservatively than what would be implemented under Framework 32. Under default measures, each full-time vessel has 18 DAS and two access area trips for 18,000 lb (8,165 kg) each (one in the Mid-Atlantic Access Area and one in the Nantucket Lightship-West Access Area). However, Framework 32 will not allocate effort into the Nantucket Lightship-West. Framework 32 has payback measures should a vessel harvest any of its default allocation in this area. We have good cause to waive the 30-day delay in effectiveness because this action provides full-time vessels with an additional 6 DAS (24 DAS total) and 54,000 lb (24,494 kg) in access area allocations (90,000 lb (40,823 kg) total). Further, LAGC IFQ vessels will receive an additional 99-mt (1,119-mt total) allocation and 1,713 access area trips spread out across 4 access areas (2,855 trips total). Accordingly, this action prevents more restrictive aspects of the default measures from going into place. Framework 32 could not have been put into place sooner to allow for a 30-day delayed effectiveness because the information and data necessary for the Council to develop the framework was not available in time for this action to be forwarded to NMFS and implemented by April 1, 2020, the beginning of the scallop fishing year. Delaying the implementation of this action for 30 days would delay positive economic benefits to the scallop fleet and could negatively impact the access area rotation program by delaying fishing in access areas that should be available.

Pursuant to section 604 of the Regulatory Flexibility Act (RFA), NMFS has completed a final regulatory flexibility analysis (FRFA) in support of Framework 32. The FRFA incorporates the IRFA, a summary of the significant issues raised by public comments in response to the IRFA, NMFS responses to those comments, a summary of the analyses completed in the Framework 32 environmental assessment, and the preamble to this final rule. A summary of the IRFA was published in the proposed rule for this action and is not repeated here. A description of why this action was considered, the objectives of, and the legal basis for this rule is contained in Framework 32 and in the preambles to the proposed rule and this final rule, and is not repeated here. All of the documents that constitute the FRFA are available from NMFS and/or the Council, and a copy of the IRFA, the Regulatory Impact Review (RIR), and the environmental assessment are available upon request (see ADDRESSES).

A Summary of the Significant Issues Raised by the Public in Response to the IRFA, a Summary of the Agency's Assessment of Such Issues, and a Statement of Any Changes Made in the Final Rule as a Result of Such Comments

There were no specific comments on the IRFA or on the economic impacts of the rule more generally.

Description and Estimate of Number of Small Entities to Which the Rule Would Apply

The regulations affect all vessels with limited access and LAGC scallop permits, but there is no differential effect based on whether the affected entities are small or large. As explained in the section below, the regulations are expected to result in lower profits for small entities compared to fishing year 2019. Framework 32 provides extensive information on the number and size of vessels and small businesses that will be affected by the regulations, by port and state (see ADDRESSES). Fishing year 2018 data were used for this analysis because these data are the most recent complete data set for a fishing year. There were 313 vessels that held full-time limited access permits in 2018, including 249 dredge, 54 small-dredge, and 12 scallop trawl permits. In the same year, there were also 32 part-time limited access permits in the scallop fishery. No vessels were issued occasional limited access permits in 2018. NMFS issued 245 LAGC IFQ permits and 102 LAGC NGOM permits in 2018. About 127 of the IFQ vessels and 41 NGOM vessels actively fished for scallops in 2018. The remaining IFQ permits likely leased out scallop IFQ allocations with their permits in Confirmation of Permit History. Section 6.6 of Framework 32 provides extensive information on the number and size of vessels that are affected by the proposed regulations, their home and principal state, dependency on the scallop fishery, and revenues and profits (see ADDRESSES).

For RFA purposes, NMFS defines a small business in a shellfish fishery as a firm that is independently owned and operated with receipts of less than $11 million annually (see 50 CFR 200.2). Individually permitted vessels may hold permits for several fisheries, harvesting species of fish that are regulated by several different FMPs, even beyond those impacted by this final rule. Furthermore, multiple permitted vessels and/or permits may be owned by entities with various personal and business affiliations. For the purposes of this analysis, ownership entities are defined as those entities with common ownership as listed on the permit application. Only permits with identical ownership are categorized as an ownership entity. For example, if five permits have the same seven persons listed as co-owners on their permit applications, those seven persons would form one ownership entity that holds those five permits. If two of those seven owners also co-own additional vessels, that ownership arrangement between the two owners for the additional vessels would be considered a separate ownership entity for the purpose of this analysis.

On June 1 of each year, ownership entities are identified based on a list of all permits for the most recent complete calendar year. The current ownership dataset is based on the calendar year 2018 permits and contains average gross sales associated with those permits for calendar years 2016 through 2018. Matching the potentially impacted 2018 fishing year permits described above (limited access and LAGC IFQ) to calendar year 2018 ownership data results in 167 distinct ownership entities for the limited access fleet and 95 distinct ownership entities for the LAGC IFQ fleet. Of these, 158 of the limited access distinct ownership entities and 95 LAGC IFQ entities are categorized as small entities. The remaining nine of the limited access and none of the LAGC IFQ entities are categorized as large entities. There were 41 distinct small business entities with NGOM permits in 2018 permits.

Description of Projected Reporting, Recordkeeping, and Other Compliance Requirements of the Final Rule

This action contains no new collection-of-information, reporting, or recordkeeping requirements. There are economic impacts to small entities associated with this action. Those impacts are described in detail in Framework 32, specifically, in the IRFA (Section 7.1.2) and in the Economic and Social Impacts section (Section 6.6).

Description of the Steps the Agency Has Taken To Minimize the Significant Economic Impact on Small Entities Consistent With the Stated Objectives of Applicable Statutes

During the development of Framework 32, NMFS and the Council considered ways to reduce the regulatory burden on, and provide flexibility for, the regulated entities in this action. For instance, Framework 32 implements flexible allocation in CAI. This was intended to provide flexibility to the fleet by allowing them to fish this allocation in either CAI or the MAAA. In addition, Framework 32 allows vessels to carry 2 additional crew members aboard both limited access full-time (10 in total) and limited access full-time small dredge vessels (8 in total). This gives a vessel the flexibility to add additional crew members to increase the shucking capacity and reach the possession limit in a time more consistent with other access areas. Alternatives to the measures in this final rule are described in detail in Framework 32, which includes an EA, RIR, and IRFA (see ADDRESSES). The measures implemented by this final rule minimize the long-term economic impacts on small entities to the extent practicable. The only alternatives for the prescribed catch limits that were analyzed were those that met the legal requirements to implement effective conservation measures. Specifically, catch limits must be derived using SSC-approved scientific calculations based on the Scallop FMP. Moreover, the limited number of alternatives available for this action must also be evaluated in the context of an ever-changing FMP, as the Council has considered numerous alternatives to mitigating measures every fishing year in amendments and frameworks since the establishment of the FMP in 1982.

Overall, this rule minimizes adverse long-term impacts by ensuring that management measures and catch limits result in sustainable fishing mortality rates that promote stock rebuilding, and as a result, maximize optimal yield. The measures implemented by this final rule also provide additional flexibility for fishing operations in the short-term.

Small Entity Compliance Guide

Section 212 of the Small Business Regulatory Enforcement Fairness Act of 1996 states that, for each rule or group of related rules for which an agency is required to prepare a FRFA, the agency will publish one or more guides to assist small entities in complying with the rule, and will designate such publications as “small entity compliance guides.” The agency will explain the actions a small entity is required to take to comply with a rule or group of rules. As part of this rulemaking process, a bulletin to permit holders that also serves as a small entity compliance guide was prepared. This final rule and the guide (i.e., bulletin) will be sent via email to the Greater Atlantic Regional Fisheries Office scallop email list and are available on the website at: http://www.greateratlantic.fisheries.noaa.gov/sustainable/species/scallop/. Hard copies of the guide and this final rule will be available upon request (see ADDRESSES).

List of Subjects 50 CFR Part 648

Fisheries, Fishing, Recordkeeping and reporting requirements.

Dated: March 25, 2020.
Samuel D. Rauch III,
Deputy Assistant Administrator for Regulatory Programs, National Marine Fisheries Service.

For the reasons set out in the preamble, 50 CFR part 648 is amended as follows:

PART 648—FISHERIES OF THE NORTHEAST UNITED STATES

1. The authority citation for part 648 continues to read as follows:

Authority: 16 U.S.C. 1801 et seq.

Subpart A—General Provisions

2. In § 648.4, revise paragraph (a)(2)(ii)(G)(1)(ii) to read as follows:

§ 648.4 Vessel permits.

(a) * * *

(2) * * *

(ii) * * *

(G) * * *

(1) * * *

(ii) NGOM and Incidental scallop permit. A vessel may be issued either an NGOM or Incidental scallop permit for each fishing year, and a vessel owner may not change his/her LAGC scallop permit category during the fishing year, except as specified in this paragraph (a)(2)(ii)(G)(1)(ii). The owners of a vessel issued a NGOM or Incidental scallop permit must elect a permit category in the vessel's permit application and shall have one opportunity each fishing year to request a change in its permit category by submitting an application to the Regional Administrator within 45 days of the effective date of the vessel's permit. After that date, the vessel must remain in that permit category for the duration of the fishing year.

* * * * *

3. In § 648.10, revise paragraph (f)(4)(i) to read as follows:

§ 648.10 VMS and DAS requirements for vessel owners/operators.

* * * * *

(f) * * *

(4) * * *

(i) For trips greater than 24 hours, the owner or operator of a limited access or LAGC scallop vessel with an IFQ permit that fishes for, possesses, or retains scallops, and is not fishing under a NE Multispecies DAS or sector allocation, must submit reports through the VMS, in accordance with instructions to be provided by the Regional Administrator, for each day fished, including open area trips, access area trips as described in § 648.59(b)(9), Northern Gulf of Maine RSA trips, and trips accompanied by a NMFS-certified observer. The reports must be submitted for each day (beginning at 0000 hr and ending at 2400 hr) and not later than 0900 hr of the following day. Such reports must include the following information:

(A) VTR serial number;

(B) Date fish were caught;

(C) Total pounds of scallop meats kept; and

(D) Total pounds of all fish kept.

* * * * *

4. In § 648.14:

a. Add paragraphs (i)(1)(iii)(A)(4) and (5);

b. Remove paragraph (i)(1)(iv)(E) and remove and reserve paragraph (i)(3)(i)(B); and

c. Revise paragraph (i)(4)(i)(G).

The additions and revision read as follows:

§ 648.14 Prohibitions.

* * * * *

(i) * * *

(1) * * *

(iii) * * *

(A) * * *

(4) Fish for, possess, or retain scallops in Federal waters of the NGOM management area on a vessel that has been issued and carries on board a NGOM permit and has declared into the state waters fishery of the NGOM management area.

(5) Fish for, possess, or retain scallops in the Stellwagen Bank Scallop Closed Area, as described in § 648.62(e), unless transiting the area and the vessel's fishing gear is stowed and not available for immediate use as defined in § 648.2.

* * * * *

(4) * * *

(i) * * *

(G) Fish for, possess, or land more than 40 lb (18.1 kg) of shucked scallops, or 5 bu (1.76 hL) of in-shell scallops shoreward of the VMS Demarcation Line, or 10 bu (3.52 hL) of in-shell scallops seaward of the VMS Demarcation Line, when the vessel is not declared into the IFQ scallop fishery, unless the vessel is fishing in compliance with all of the requirements of the state waters exemption program, specified at § 648.54, or on a properly declared NE multispecies, surfclam, or ocean quahog trip (or other fishery requiring a VMS declaration) and not fishing in a scallop access area.

* * * * *

Subpart D—Management Measures for the Atlantic Sea Scallop Fishery

5. In § 648.51:

a. Add paragraph (c)(1);

b. Remove the semicolon at the end of paragraph (c)(2) and add a period in its place; and

c. Add paragraph (e)(3)(iv).

The additions read as follows:

§ 648.51 Gear and crew restrictions.

* * * * *

(c) * * *

(1) A vessel fishing in the Nantucket Lightship-South-Deep Access Area, as described in § 648.60(e), may have no more than 10 people aboard, including the operator, when not docked or moored in port.

* * * * *

(e) * * *

(3) * * *

(iv) A vessel fishing in the Nantucket Lightship-South-Deep Access Area, as described in § 648.60(e), may have no more than 8 people aboard, including the operator, when not docked or moored in port.

* * * * *

6. In § 648.52, revise paragraphs (b) and (c) to read as follows:

§ 648.52 Possession and landing limits.

* * * * *

(b) A vessel issued an NGOM scallop permit, or an IFQ scallop permit that is declared into the NGOM scallop fishery as described in § 648.62, unless exempted under the state waters exemption program described under § 648.54, may not possess or land, per trip, more than 200 lb (90.7 kg) of shucked scallops, or possess more than 25 bu (8.81 hL) of in-shell scallops shoreward of the VMS Demarcation Line. Such a vessel may land scallops only once in any calendar day. Such a vessel may possess up to 50 bu (17.6 hL) of in-shell scallops seaward of the VMS demarcation line on a properly declared NGOM scallop fishery trip.

(c) A vessel issued an Incidental scallop permit, or an IFQ scallop permit that is not declared into the IFQ scallop fishery or on a properly declared NE multispecies, surfclam, or ocean quahog trip or other fishery requiring a VMS declaration as required under § 648.10(f), unless exempted under the state waters exemption program described under § 648.54, may not possess or land, per trip, more than 40 lb (18.1 kg) of shucked scallops, or possess more than 5 bu (1.76 hL) of in-shell scallops shoreward of the VMS Demarcation Line. Such a vessel may land scallops only once in any calendar day. Such a vessel may possess up to 10 bu (3.52 hL) of in-shell scallops seaward of the VMS Demarcation Line.

* * * * *

7. In § 648.53, revise paragraphs (a)(8), (b)(3), and (h)(5)(i) to read as follows:

§ 648.53 Overfishing limit (OFL), acceptable biological catch (ABC), annual catch limits (ACL), annual catch targets (ACT), annual projected landings (APL), DAS allocations, and individual fishing quotas (IFQ).

(a) * * *

(8) Scallop fishery catch limits. The following catch limits will be effective for the 2020 and 2021 fishing years:

Table 1 to Paragraph (a)(8)—Scallop Fishery Catch Limits
Catch limits | 2020 (mt) | 2021 (mt) ¹
Overfishing Limit | 56,186 | 47,503
Acceptable Biological Catch/ACL (discards removed) | 45,414 | 36,435
Incidental Catch | 23 | 23
Research Set-Aside (RSA) | 567 | 567
Observer Set-Aside | 454 | 364
ACL for fishery | 44,370 | 35,481
Limited Access ACL | 41,930 | 33,530
LAGC Total ACL | 2,440 | 1,951
LAGC IFQ ACL (5 percent of ACL) | 2,219 | 1,774
Limited Access with LAGC IFQ ACL (0.5 percent of ACL) | 222 | 177
Limited Access ACT | 37,819 | 30,242
APL (after set-asides removed) | 22,370 | (1)
Limited Access Projected Landings (94.5 percent of APL) | 21,140 | (1)
Total IFQ Annual Allocation (5.5 percent of APL) ² | 1,230 | 923
LAGC IFQ Annual Allocation (5 percent of APL) ² | 1,119 | 839
Limited Access with LAGC IFQ Annual Allocation (0.5 percent of APL) ² | 112 | 84
¹ The catch limits for the 2021 fishing year are subject to change through a future specifications action or framework adjustment. This includes the setting of an APL for 2021 that will be based on the 2020 annual scallop surveys. The 2021 default allocations for the limited access component are defined for DAS in paragraph (b)(3) of this section and for access areas in § 648.59(b)(3)(i)(B).
² As specified in paragraph (a)(6)(iii)(B) of this section, the 2021 IFQ annual allocations are set at 75 percent of the 2020 IFQ Annual Allocations.

(b) * * *

(3) DAS allocations. The DAS allocations for limited access scallop vessels for fishing years 2020 and 2021 are as follows:

Table 2 to Paragraph (b)(3)—Scallop Open Area DAS Allocations
Permit category | 2020 | 2021 ¹
Full-Time | 24.00 | 18.00
Part-Time | 9.60 | 7.20
Occasional | 2.00 | 1.5
¹ The DAS allocations for the 2021 fishing year are subject to change through a future specifications action or framework adjustment. The 2021 DAS allocations are set at 75 percent of the 2020 allocation as a precautionary measure.

* * * * *

(h) * * *

(5) * * *

(i) Temporary IFQ transfers. Subject to the restrictions in paragraph (h)(5)(iii) of this section, the owner of an IFQ scallop vessel (and/or IFQ scallop permit in confirmation of permit history) not issued a limited access scallop permit may temporarily transfer (e.g., lease) its entire IFQ allocation, or a portion of its IFQ allocation, to another IFQ scallop vessel. Temporary IFQ transfers shall be effective only for the fishing year in which the temporary transfer is requested and processed. IFQ can be temporarily transferred more than once (i.e., re-transferred). For example, if a vessel temporarily transfers IFQ to a vessel, the transferee vessel may re-transfer any portion of that IFQ to another vessel. There is no limit on how many times IFQ can be re-transferred in a fishing year. The Regional Administrator has final approval authority for all temporary IFQ transfer requests.

* * * * *

8. In § 648.59, revise paragraphs (b)(3)(i)(B), (b)(3)(ii), (c), (e), and (g)(3)(v) to read as follows:

§ 648.59 Sea Scallop Rotational Area Management Program and Access Area Program requirements.

* * * * *

(b) * * *

(3) * * *

(i) * * *

(B) The following access area allocations and possession limits for limited access vessels shall be effective for the 2020 and 2021 fishing years:

(1) Full-time vessels. (i) For a full-time limited access vessel, the possession limit and allocations are:

Table 1 to Paragraph (b)(3)(i)(B)(1)(i )
Rotational access area | Scallop possession limit | 2020 Scallop allocation | 2021 Scallop allocation (default)
Closed Area I Flex ¹ | 18,000 lb (8,165 kg) per trip | 9,000 lb (4,082 kg) | 0 lb (0 kg).
Closed Area II |  | 18,000 lb (8,165 kg) | 0 lb (0 kg).
Nantucket Lightship-North |  | 9,000 lb (4,082 kg) | 0 lb (0 kg).
Nantucket Lightship-South-Deep |  | 18,000 lb (8,165 kg) | 0 lb (0 kg).
Mid-Atlantic |  | 36,000 lb (16,329 kg) | 18,000 lb (8,165 kg).
Total |  | 90,000 lb (40,823 kg) | 18,000 lb (8,165 kg).
¹ Closed Area I flex allocation can be landed from either Closed Area I or the Mid-Atlantic Access Area pursuant to the area boundaries defined § 648.60(c).

(ii) For the 2019 fishing year and the first 60 days of the 2020 fishing year, a full-time limited access vessel may choose to land up to 18,000 lb (8,165 kg) of its Closed Area I Access Area allocation from any access area made available in the 2019 fishing year as described in the § 648.60. For example, a vessel could take a trip in the Closed Area I Access Area and land 10,000 lb (4,536 kg) from that area, leaving the vessel with 8,000 lb (3,629 kg) of the Closed Area I flex allocation available, which could be landed from any other available access area as described in this section, provided the 18,000-lb (8,165-kg) possession limit is not exceeded on any one trip.

(iii) For the 2020 fishing year and the first 60 days of the 2021 fishing year, a full-time limited access vessel may choose to land its Closed Area I Access Area allocation from either Closed Area I or the Mid-Atlantic Access Area as described in the § 648.60(c) and (a), respectively. For example, a vessel could take a trip in the Closed Area I Access Area and land 5,000 lb (2,268 kg) from that area, leaving the vessel with 4,000 lb (1,814 kg) of the Closed Area I flex allocation available, which could be landed from the Mid-Atlantic Access Area as described in this section, provided the 18,000-lb (8,165-kg) possession limit is not exceeded on any one trip.

(iv) If implementation of the fishing year 2020 specifications is delayed beyond April 1, 2020, the start of the 2020 fishing year, any full-time limited access vessel that harvests any portion of its default 2020 Nantucket Lightship-West Access Area allocation, as described in the § 648.60(f), will have 18,000 lb deducted from its fishing year 2020 Closed Area II Access Area allocation.

(2) Part-time vessels. (i) For a part-time limited access vessel, the possession limit and allocations are as follows:

Table 2 to Paragraph (b)(3)(i)(B)(2)(i )
Rotational access area | Scallop possession limit | 2020 Scallop allocation | 2021 Scallop allocation (default)
Closed Area II | 12,000 lb (5,443 kg) per trip | 12,000 lb (5,443 kg) | 0 lb (0 kg)
Mid-Atlantic |  | 24,000 lb (10,886 kg) | 7,200 lb (3,266 kg)
Total |  | 36,000 lb (16,329 kg) | 7,200 lb (3,266 kg)

(ii) For the 2019 fishing year and the first 60 days of the 2020 fishing year, a part-time limited access vessel may choose to land up to 17,000 lb (7,711 kg) of its Closed Area I Access Area allocation from any access area made available in the 2019 fishing year as described in the § 648.60(a), (c), and (f). For example, a vessel could take a trip in the Closed Area I Access Area and land 10,000 lb (4,536 kg) from that area, leaving the vessel with 7,000 lb (3,175 kg) of the Closed Area I flex allocation available, which could be landed from any other available access area as described in this section, provided the possession limit is not exceeded on any one trip.

(iii) If implementation of fishing year 2020 specifications is delayed beyond the April 1, 2020, start of the 2020 fishing year, any part-time limited access vessel that harvests any portion of its default 2020 Nantucket Lightship-West Access Area allocation, as described in the § 648.60(f), will have 12,000 lb (5,443 kg) deducted from its fishing year 2020 Closed Area II Access Area allocation.

(3) Occasional limited access vessels. (i) For the 2020 fishing year only, an occasional limited access vessel is allocated 7,500 lb (3,402 kg) of scallops with a trip possession limit at 7,500 lb of scallops per trip (3,402 kg per trip). Occasional limited access vessels may harvest the 7,500 lb (3,402 kg) allocation from only the Mid-Atlantic Access Area.

(ii) For the 2021 fishing year, occasional limited access vessels are allocated 1,500 lb (680 kg) of scallops in the Mid-Atlantic Access Area only with a trip possession limit of 1,500 lb of scallops per trip (680 kg per trip).

(ii) Limited access vessels' one-for-one area access allocation exchanges—(A) Full-time limited access vessels. (1) The owner of a vessel issued a full-time limited access scallop permit may exchange unharvested scallop pounds allocated into one access area for another vessel's unharvested scallop pounds allocated into another scallop access area. These exchanges may be made only in 9,000-lb (4,082-kg) increments. For example, a full-time vessel may exchange 9,000 lb (4,082 kg) from one access area for 9,000 lb (4,082 kg) allocated to another full-time vessel for another access area. Further, a full-time vessel may exchange 18,000 lb (8,165 kg) from one access area for 18,000 lb (8,165 kg) allocated to another full-time vessel for another access area. In addition, these exchanges may be made only between vessels with the same permit category: A full-time vessel may not exchange allocations with a part-time vessel, and vice versa. Vessel owners must request these exchanges by submitting a completed Access Area Allocation Exchange Form at least 15 days before the date on which the applicant desires the exchange to be effective. Exchange forms are available from the Regional Administrator upon request. Each vessel owner involved in an exchange is required to submit a completed Access Area Allocation Form. The Regional Administrator shall review the records for each vessel to confirm that each vessel has enough unharvested allocation remaining in a given access area to exchange. The exchange is not effective until the vessel owner(s) receive a confirmation in writing from the Regional Administrator that the allocation exchange has been made effective. A vessel owner may exchange equal allocations in 9,000-lb (4,082-kg) increments between two or more vessels of the same permit category under his/her ownership. A vessel owner holding a Confirmation of Permit History is not eligible to exchange allocations between another vessel and the vessel for which a Confirmation of Permit History has been issued.

(2) In fishing year 2020, full-time limited access vessels are allocated 9,000 lb (4,082 kg) of scallops that may be landed from either Closed Area I or the Mid-Atlantic Access Area as described in the § 648.60(c) and (a), respectively. This flex allocation may be exchanged in full for another access area allocation, but only the flex allocation may be landed from either Closed Area I or the Mid-Atlantic Access Area. For example, if a Vessel A exchanges 9,000 lb (4,082 kg) of Closed Area I flex allocation for 9,000 lb (4,082 kg) of Nantucket Lightship-North allocation with Vessel B, Vessel A would no longer be allowed to land this allocation from the Mid-Atlantic Access Area and may only land this allocation from Nantucket Lightship-North, but Vessel B could land the flex allocation from either Closed Area I or the Mid-Atlantic Access Area.

(B) Part-time limited access vessels. The owner of a vessel issued a part-time limited access scallop permit may exchange unharvested scallop pounds allocated into one access area for another part-time vessel's unharvested scallop pounds allocated into another scallop access area. These exchanges may be made only for the amount of the current trip possession limit, as specified in paragraph (b)(3)(i)(B)(2) of this section. For example, if the access area trip possession limit for part-time limited access vessels is 12,000 lb (5,443 kg), a part-time limited access vessel may exchange no more or less than 12,000 lb (5,443 kg), from one access area for no more or less than 12,000 lb (5,443 kg) allocated to another vessel for another access area. In addition, these exchanges may be made only between vessels with the same permit category: A full-time limited access vessel may not exchange allocations with a part-time vessel, and vice versa. Vessel owners must request these exchanges by submitting a completed Access Area Allocation Exchange Form at least 15 days before the date on which the applicant desires the exchange to be effective. Exchange forms are available from the Regional Administrator upon request. Each vessel owner involved in an exchange is required to submit a completed Access Area Allocation Form. The Regional Administrator shall review the records for each vessel to confirm that each vessel has enough unharvested allocation remaining in a given access area to exchange. The exchange is not effective until the vessel owner(s) receive a confirmation in writing from the Regional Administrator that the allocation exchange has been made effective. A part-time limited access vessel owner may exchange equal allocations up to the current possession limit between two or more vessels under his/her ownership. A vessel owner holding a Confirmation of Permit History is not eligible to exchange allocations between another vessel and the vessel for which a Confirmation of Permit History has been issued.

* * * * *

(c) Scallop Access Area scallop allocation carryover. With the exception of vessels that held a Confirmation of Permit History as described in § 648.4(a)(2)(i)(J) for the entire fishing year preceding the carry-over year, a limited access scallop vessel operator may fish any unharvested Scallop Access Area allocation from a given fishing year within the first 60 days of the subsequent fishing year if the Scallop Access Area is open, unless otherwise specified in this section. However, the vessel may not exceed the Scallop Rotational Area trip possession limit. For example, if a full-time vessel has 7,000 lb (3,175 kg) remaining in the Mid-Atlantic Access Area at the end of fishing year 2019, that vessel may harvest those 7,000 lb (3,175 kg) during the first 60 days that the Mid-Atlantic Access Area is open in fishing year 2020 (April 1, 2020 through May 30, 2020).

* * * * *

(e) Sea Scallop Research Set-Aside Harvest in Scallop Access Areas. Unless otherwise specified, RSA may be harvested in any access area that is open in a given fishing year, as specified through a specifications action or framework adjustment and pursuant to § 648.56. The amount of scallops that can be harvested in each access area by vessels participating in approved RSA projects shall be determined through the RSA application review and approval process. The access areas open for RSA harvest for fishing years 2020 and 2021 are:

(1) 2020: Mid-Atlantic Access Area.

(2) 2021: No access areas.

* * * * *

(g) * * *

(3) * * *

(v) LAGC IFQ access area allocations. The following LAGC IFQ access area trip allocations will be effective for the 2020 and 2021 fishing years:

Table 3 to Paragraph (g)(3)(v)
Scallop access area | 2020 | 2021¹
Closed Area I | 571 | 0
Nantucket Lightship-North | 571 | 0
Nantucket Lightship-South-Deep | 571 | 0
Mid-Atlantic | 1,142 | 571
Total | 2,855 | 571
¹ The LAGC IFQ access area trip allocations for the 2021 fishing year are subject to change through a future specifications action or framework adjustment.

* * * * *

9. Revise § 648.60 to read as follows:

§ 648.60 Sea Scallop Rotational Areas.

(a) Mid-Atlantic Scallop Rotational Area. The Mid-Atlantic Scallop Rotational Area is defined by straight lines connecting the following points in the order stated (copies of a chart depicting this area are available from the Regional Administrator upon request):

Table 1 to Paragraph (a)
Point | N latitude | W longitude
MAA1 | 39°30′ | 73°10′
MAA2 | 39°30′ | 72°30′
MAA3 | 38°30′ | 73°30'
MAA4 | 38°10′ | 73°30'
MAA5 | 38°10′ | 74°20′
MAA6 | 38°50′ | 74°20′
MAA7 | 38°50′ | 73°42′
MAA1 | 39°30′ | 73°10′

(b) Closed Area II—Southwest and Extension Scallop Rotational Area. The Closed Area II-Southwest and Extension Scallop Rotational Area is defined by straight lines connecting the following points in the order stated (copies of a chart depicting this area are available from the Regional Administrator upon request):

Table 2 to Paragraph (b)
Point | N latitude | W longitude | Note
CAIISWE1 | 41°11′ | 67°20′ |
CAIISWE2 | 41°11′ | 66°41′ |
CAIISWE3 | 41°0′ | 66°41′ |
CAIISWE4 | 41°0′ | (¹) | (²)
CAIISWE5 | 40°40′ | (³) | (²)
CAIISWE6 | 40°40′ | 67°20′ |
CAIISWE1 | 41°11′ | 67°20′ |
¹ The intersection of 41°0′ N lat. and the U.S.-Canada Maritime Boundary, approximately 41°0′ N lat. and 66°09.33′ W long.
² From Point CAIISWE 4 connected to Point CAIISWE5 along the U.S.-Canada Maritime Boundary.
³ The intersection of 40°40′ N lat. and the U.S.-Canada Maritime Boundary, approximately 40°40′ N lat. and 65°52.61′ W long.

(c) Closed Area I Scallop Rotational Area. The Closed Area I Scallop Rotational Area is defined by straight lines connecting the following points in the order stated (copies of a chart depicting this area are available from the Regional Administrator upon request):

Table 3 to Paragraph (c)
Point | N latitude | W longitude
CAIA1 | 41°30′ | 68°30′
CAIA2 | 40°58′ | 68°30′
CAIA3 | 40°54.95′ | 68°53.37′
CAIA4 | 41°04′ | 69°01′
CAIA5 | 41°30′ | 69°23′
CAIA1 | 41°30′ | 68°30′

(d) Closed Area II Scallop Rotational Area—(1) Closed Area II Scallop Rotational boundaries. The Closed Area II Scallop Rotational Area is defined by straight lines, except where noted, connecting the following points in the order stated (copies of a chart depicting this area are available from the Regional Administrator upon request):

Table 4 to Paragraph (d)(1)
Point | N latitude | W longitude | Note
CAIIA1 | 41°30′ | 67°20′ |
CAIIA2 | 41°11′ | 67°20′ |
CAIIA3 | 41°11′ | 66°41′ |
CAIIA4 | 41°00′ | 66°41′ |
CAIIA5 | 41°00′ | (¹) | (²)
CAIIA6 | 41°30′ | (³) | (²)
CAIIA1 | 41°30′ | 67°20′ |
¹ The intersection of 41°00′ N lat. and the U.S.-Canada Maritime Boundary, approximately 41°00′ N lat. and 66°09.33′ W long.
² From Point CAIIA5 connected to Point CAIIA6 along the U.S.-Canada Maritime Boundary.
³ The intersection of 41°30′ N lat. and the U.S.-Canada Maritime Boundary, approximately 41°30′ N lat., 66°34.73′ W long.

(2) Season. (i) A vessel issued a scallop permit may not fish for, possess, or land scallops in or from the area known as the Closed Area II Sea Scallop Rotational Area, defined in paragraph (d)(1) of this section, during the period of August 15 through November 15 of each year the Closed Area II Access Area is open to scallop vessels, unless transiting pursuant to § 648.59(a).

(ii) For the 2020 scallop fishing year, a vessel issued a scallop permit may not fish for, possess, or land scallops in or from the area known as the Closed Area II Sea Scallop Rotational Area, defined in paragraph (d)(1) of this section, during the period of November 16 through November 30, unless transiting pursuant to § 648.59(a).

(e) Nantucket Lightship-South-Deep Scallop Rotational Area. The Nantucket Lightship South-Deep Rotational Area is defined by straight lines connecting the following points in the order stated (copies of a chart depicting this area are available from the Regional Administrator upon request):

Table 5 to Paragraph (e)
Point | N latitude | W longitude
NLSSD1 | 40°22′ | 69°30′
NLSSD2 | 40°15′ | 69°30′
NLSSD3 | 40°15′ | 69°00′
NLSSD4 | 40°28′ | 69°00′
NLSSD5 | 40°28′ | 69°17′
NLSSD1 | 40°22′ | 69°30′

(f) Nantucket Lightship West Scallop Rotational Area. From April 1, 2020 through May 30, 2020, the Nantucket Lightship West Scallop Rotational Area is defined by straight lines connecting the following points in the order stated (copies of a chart depicting this area are available from the Regional Administrator upon request):

Table 6 to Paragraph (f)
Point | N latitude | W longitude
NLSW1 | 40°20′ | 70°00′
NLSW2 | 40°43.44′ | 70°00′
NLSW3 | 40°43.44′ | 69°30′
NLSW4 | 40°20′ | 69°30′
NLSW1 | 40°20′ | 70°00′

(g) Nantucket Lightship-North Scallop Rotational Area. The Nantucket Lightship North Scallop Rotational Area is defined by straight lines connecting the following points in the order stated (copies of a chart depicting this area are available from the Regional Administrator upon request):

Table 7 to Paragraph (g)
Point | N latitude | W longitude
NLSN1 | 40°50′ | 69°30′
NLSN2 | 40°50′ | 69°00′
NLSN3 | 40°28′ | 69°00′
NLSN4 | 40°28′ | 69°30′
NLSN1 | 40°50′ | 69°30′

(h) Nantucket Lightship-Triangle Scallop Rotational Area. The Nantucket Lightship Triangle Scallop Rotational Area is defined by straight lines connecting the following points in the order stated (copies of a chart depicting this area are available from the Regional Administrator upon request):

Table 8 to Paragraph (h)
Point | N latitude | W longitude
NLST1 | 40°28′ | 69°30′
NLST2 | 40°28′ | 69°17′
NLST3 | 40°22′ | 69°30′
NLST1 | 40°28′ | 69°30′

10. In § 648.62, revise paragraph (b)(1) and add paragraph (e) to read as follows:

§ 648.62 Northern Gulf of Maine (NGOM) Management Program.

* * * * *

(b) * * *

(1) The LAGC and the limited access portions of the annual hard TAC for the NGOM 2020 and 2021 fishing years are as follows:

Table 1 to Paragraph (b)(1)
Fleet | 2020: lb | 2020: kg | 2021 (default): lb | 2021 (default): kg
LAGC | 206,282 | 93,567 | 167,500 | 75,977
Limited access | 140,000 | 63,503 | 97,500 | 44,225
Total | 346,282 | 157,071 | 265,000 | 120,202

* * * * *

(e) Stellwagen Bank Scallop Closed Area. (1) From April 1, 2020 through March 31, 2022, unless a vessel has fished for scallops outside of the Stellwagen Bank scallop management area and is transiting the area with all fishing gear stowed and not available for immediate use as defined in § 648.2, no vessel issued a Federal scallop permit pursuant to § 648.4(a)(2) may possess, retain, or land scallops in the Stellwagen Bank Scallop Closed Area.

(2) From April 1, 2020 through March 31, 2022, the Stellwagen Bank Scallop Closed Area is defined by straight lines connecting the following points in the order stated (copies of a chart depicting this area are available from the Regional Administrator upon request):

Table 2 to Paragraph (e)(2)
Point | N latitude | W longitude
SB1 | 42°26′ | 70°27′
SB2 | 42°26′ | 70°15′
SB3 | 42°20′ | 70°15′
SB4 | 42°20′ | 70°27′
SB1 | 42°26′ | 70°27′

[FR Doc. 2020-06599 Filed 3-30-20; 8:45 am]

BILLING CODE 3510-22-P